INTERNATIONAL TRADE COMMISSION

[Investigation No. 337-TA-1123]

Carburetors and Products Containing Such Carburetors; Notice of a Commission Determination Not To Review an Initial Determination Granting In-Part a Motion for Leave To Amend the Complaint and Notice of Investigation

AGENCY: U.S. International Trade Commission.

ACTION: Notice.

SUMMARY: Notice is hereby given that the U.S. International Trade Commission has determined not to review an initial determination (“ID”) (Order No. 50) of the presiding administrative law judge (“ALJ”), granting in-part complainant's unopposed motion for leave to amend the complaint and notice of investigation to (1) substitute Huayi Mechanical and Electrical Co., Ltd. for originally named respondent Huayi Carburetor Factory, and update the corresponding address; (2) correct the corporate name of respondent Cabela's Incorporated to Cabela's LLC; and (3) substitute Techtronic Industries (Dongguan) Co. Ltd. for the named respondent Techtronic Industries Co. Ltd. of Hong Kong d/b/a Techtronic Industries Power Equipment.

FOR FURTHER INFORMATION CONTACT: Amanda Pitcher Fisherow, Esq., Office of the General Counsel, U.S. International Trade Commission, 500 E Street SW, Washington, DC 20436, telephone (202) 205-2737. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on July 20, 2018, based on a complaint, as supplemented, filed on behalf of Walbro, LLC of Tucson, Arizona (“Complainant”). 83 FR 34,614 (July 20, 2018). The complaint, as supplemented, alleges violations of Section 337 of the Tariff Act of 1930, as amended, 19 U.S.C. 1337 (“section 337”), based upon the importation into the United States, the sale for importation, and the sale within the United States after importation of certain carburetors and products containing such carburetors by reason of infringement of one or more of U.S. Patent Nos. 6,394,424; 6,439,547; 6,533,254; 6,540,212; and 7,070,173. The complaint further alleges that an industry in the United States exists as required by section 337. The notice of investigation named numerous respondents, including Huayi Carburetor Factory of Chongqinq, China, Cabela's Incorporated of Sidney, Nebraska, and Techtronics Industries Co. Ltd of Hong Kong d/b/a Techtronic Industries Power Equipment of Hong Kong. The Office of Unfair Import Investigations (“OUII”) was named as a party in this investigation.

On March 14, 2019, Complainant filed an unopposed motion to amend the complaint and Notice of Investigate to: (1) Substitute “Huayi Mechanical and Electrical Co., Ltd.” for originally named respondent “Huayi Carburetor Factory,” and update the address accordingly to “No.32, Xinghuo Industrial Zone, Fuding City, Fujian Province 355200, P.R. China”; (2) correct the corporate name of respondent “Cabela's Incorporated” to “Cabela's LLC”; (3) substitute “Techtronic Industries (Dongguan) Co. Ltd.” for named respondent “Techtronics Industries Co. Ltd of Hong Kong d/b/a Techtronic Industries Power Equipment;” and (4) update contact information for Complainant's counsel. On March 25, 2019, OUII filed a response supporting the motion in-part.

On April 25, 2019, the ALJ issued Order No. 50. Order No. 50 finds that “good cause exists for amending the complaint to change the names of Cabela's Incorporated and to substitute Respondents Huayi Mechanical and Electrical Co. Ltd. and Techtronic Industries (Dongguan) Co. Ltd. for Respondents Huayi Carburetor Factory, and Techtronic Industries Co. Ltd. of Hong Kong d/b/a Techtronic Industries Power Equipment.” Order No. 50 at 2. The ALJ further finds that “amending the Complaint and Notice of Investigation to reflect the proper names of the Respondents will aid in the development of the Investigation and is necessary to avoid prejudicing the public interest and rights of the parties to the Investigation.” Id. However, the ALJ declined to grant the motion with respect to Complainant's request to change counsel's address as that change is made normally through a notice of appearance. Id. No party petitioned for review.

The Commission has determined not to review the ID. The notice of investigation and complaint are amended.

The authority for the Commission's determination is contained in section 337 of the Tariff Act of 1930, as amended (19 U.S.C. 1337), and in part 210 of the Commission's Rules of Practice and Procedure (19 CFR part 210).

By order of the Commission.
Issued: May 20, 2019.
Katherine Hiner,
Acting Secretary to the Commission.

[FR Doc. 2019-10852 Filed 5-23-19; 8:45 am]

BILLING CODE 7020-02-P